DEPARTMENT OF TRANSPORTATION

Office of the Secretary of Transportation

[Docket No. OST-2022-0021]

Agency Information Collection Activities: Notice of Request for Comments for New Information Collection

AGENCY: Office of the Secretary of Transportation (OST), USDOT.

ACTION: Notice and request for comments.

SUMMARY: The OST has forwarded the information collection request described in this notice to the Office of Management and Budget (OMB) for approval of a new information collection. We published a Federal Register Notice with a 60-day public comment period on this information collection on June 2, 2022. We are required to publish this notice in the Federal Register by the Paperwork Reduction Act of 1995.

DATES: Please submit comments by September 8, 2022.

ADDRESSES: You may submit comments within 30 days to the Office of Information and Regulatory Affairs, Office of Management and Budget, 725 17th Street NW, Washington, DC 20503, Attention DOT Desk Officer. You are asked to comment on any aspect of this information collection, including: (1) Whether the proposed collection is necessary for the OST's performance; (2) the accuracy of the estimated burden; (3) ways for the OST to enhance the quality, usefulness, and clarity of the collected information; and (4) ways that the burden could be minimized, including the use of electronic technology, without reducing the quality of the collected information. All comments should include the Docket number OST-2022-0021.

FOR FURTHER INFORMATION CONTACT: Tara Lanigan (tara.lanigan@dot.gov), Department of Transportation, Office of the Secretary of Transportation, 1200 New Jersey Avenue SE, Washington, DC 20590. Office hours are from 7:30 a.m. to 4:00 p.m., Monday through Friday, except Federal holidays.

SUPPLEMENTARY INFORMATION:

Title: Strengthening Mobility and Revolutionizing Transportation (SMART) Grant Program.

Background: The Bipartisan Infrastructure Law (BIL, also known as the Infrastructure Investment and Jobs Act), enacted on November 15, 2021 provides for significant investments in America's transportation infrastructure. A key program of the legislation is the Strengthening and Revolutionizing Transportation (SMART) Grant Program ($100 million per year for a period of five years), under which “the Secretary shall provide grants to eligible entities to conduct demonstration projects focused on advanced smart city or community technologies and systems in a variety of communities to improve transportation efficiency and safety” (BIL § 25005; 23 U.S.C. 502(b)). More specifically, SMART Grants may be used to carry out a project that demonstrates at least one of the following:

• Coordinated Automation

• Connected Vehicles

• Systems Integration

• Commerce Delivery and Logistics

• Leveraging Use of Innovative Aviation Technology

• Smart Grid

• Smart Technology Traffic Signals

This competitive grant program is comprised of two separate stages. For Stage 1, the Office of the Secretary (OST) will issue a Notice of Funding Opportunity (NOFO) that describes the requirements of the SMART Grant program, including the criteria that will be used to evaluate applications. The NOFO will provide a description of the application requirements. All eligible entities must submit a completed application in order to be considered for a Stage 1 grant award. More specifically, the applicants who are selected for a Stage 1 grant (i.e., the recipients) will develop a plan or prototype of their project. Only Stage 1 grantees will be eligible to apply for a Stage 2 grant that will provide funding to more broadly demonstrate their project. Separate agreements for Stage 1 and Stage 2 will outline the schedule, budget and all activities and deliverables. Additional reporting requirements associated with their SMART grant are outlined below.

• Annual Implementation Reports. These annual reports document project progress in meeting its goals. The Reports must demonstrate how the deployment and operational costs of the project compare to the benefits and savings; the means by which each project is meeting its original expectation, including data findings on the impacts of the project (e.g., safety, mobility, access, system efficiency, etc.) and lessons learned. A Final Implementation Report will include final findings related to project benefits, costs and impacts.

• Evaluation Plan. The evaluation plan describes how the project will be evaluated, including the anticipated impacts of the project (e.g., goals), the methods that will be used to measure those impacts, and the performance measures.

• Data Management Plan. The data management plan provides more detailed information on the types of data being collected by the grantee and how that data will be managed and stored (e.g., how privacy is protected, the entities that have access to the data, etc.).

• Quarterly Progress Reports. The Quarterly progress reports provide status updates, including activities accomplished during the quarter, financial and schedule reporting, and anticipated activities for the next quarter (among other updates, such as any project challenges).

Respondents: Eligible entities for SMART grants include (A) a State; (B) a political subdivision of a State; (C) a Tribal government; (D) a public transit agency or authority; (E) a public toll authority; (F) a metropolitan planning organization; and (G) a group of 2 or more eligible entities described in (A) through (F) applying through a single lead applicant.

The anticipated annual number of applicants is 120, and the anticipated annual number of recipients is 40 (on average).

Estimated Average Burden per Response: The estimated average reporting burden will vary by stage, as follows (Please note that a new “cohort” is anticipated each year of the Information Collection (IC), and the calculations below are for a single cohort):

• Application Stage 1: On average, 100 hours per applicant per cohort

• Grant Stage (one-time per cohort): 149 hours per recipient per cohort

• Grant Stage (ongoing across the IC): 50 hours per recipient per year per cohort

Estimated Total Annual Burden: The estimated total annual burden per cohort is calculated as:

• Stage 1 applicants: 12,000 hours per cohort (120 applicants × 100 hours/application).

• Grant Stage (one-time burden): 5,960 hours per cohort (40 recipients × 149 hours)

• Grant Stage (ongoing burden during IC): 2,000 hours per cohort (40 recipients × 50 hours)

Electronic Access: For access to the docket to read background documents or comments received, go to http://www.regulations.gov. Follow the online instructions for accessing the dockets.

Authority: The Paperwork Reduction Act of 1995; 44 U.S.C. Chapter 35, as amended; and 49 CFR 1.48.

Issued on: August 3, 2022.
Daniel Morgan,
Assistant Chief Information Officer for Data Services and Chief Data Officer.

[FR Doc. 2022-17037 Filed 8-8-22; 8:45 am]

BILLING CODE 4910-22-P